DEPARTMENT OF LABOR

Employment and Training Administration

Proposed Information Collection Request; Submitted for Public Comment and Recommendations; Job Corps Health Questionnaire

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment & Training Administration is soliciting comments concerning the proposed revision of the Health Questionnaire, Form ETA 6-53, a copy of which is attached to this notice.

DATES: Written comments must be submitted on or before April 5, 2004.

ADDRESSES: Send comments to Barbara J. Grove, RN, National Nurse Consultant, Office of Job Corps, Room N-4456, 200 Constitution Avenue, NW., Washington, DC 20210. E-Mail: grove.barbara@dol.gov; Telephone number (202) 693-3116 (this is not a toll-free number); Fax number (202) 693-3850 (this is not a toll-free number).

FOR FURTHER INFORMATION CONTACT: Barbara J. Grove, RN, National Nurse Consultant, Office of Job Corps, Room N-4456, 200 Constitution Avenue, NW. Washington, DC 20210. E-Mail: grove.barbara@dol.gov; Telephone number (202) 693-3116 (this is not a toll-free number); Fax number (202) 693-3850 (this is not a toll-free number).

SUPPLEMENTARY INFORMATION: I. Background: The Job Corps program is described in its enabling legislation under Public Law 105-220, Workforce Investment Act of 1998. Section 145 establishes standards and procedures for obtaining data from each applicant relating to their needs. The Department of Labor's regulation at 20 CFR 670.410 further details the recruitment and screening of applicants. Individuals who wish to enroll in the Job Corps program must first be determined to be eligible and selected for enrollment. This process is carried out by admissions agencies, including state employment services, contracted to recruit young people for the Job Corps program. The admission process ensures that applicants meet all the admission criteria as defined in the Policy and Requirement Handbook (PRH) Chapter 1, Outreach and Admissions, July 2001. Nonmedical personnel in the admission's office (admission counselors) conduct the admission interview and complete the required application forms. The ETA 6-53 is completed on all applicants who have been determined to be eligible and selected for the Job Corps Program.

II. Desired Focus of Comments: Currently, the Department of Labor is soliciting comments concerning the proposed collection of information in the revised Job Corps Health Questionnaire, particularly comments which:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submission or responses.

A copy of the proposed information collection request (ICR) can be obtained by contacting the office listed above in the addressee section of this notice.

III. Current Actions: After the applicant has been determined to be eligible and then selected for the Job Corps Program, the applicant is assigned to a center. After being assigned to a center, the ETA 6-53 is completed on all applicants. If additional health information is needed from previous health care providers, this information is collected and the admission packet in its entirety is sent to the center of assignment. When the application is received on center, it is reviewed; if there are health related issues, the application is forwarded to the center's health services. After reviewing the application, if it is felt that the applicant's health needs cannot be met on center, the folder is sent to the Regional Office for review. The Regional Health Consultant then reviews the folder and a recommendation is made to the Regional Director. The Regional Director makes the final determination regarding enrollment of the applicant. If the application is denied, the applicant will be referred to other state and/or local agencies.

Experience throughout the Job Corps indicates that the Health Questionnaire is an excellent guide in identifying current and potential applicant health needs. Its use results in considerable savings of time, by both center health staff and regional health consultants and staff, and of money, by reducing high medical program costs due to medical separations.

Revisions of the ETA 6-53 have been made to reflect the Workforce Investment Act, and to be more sensitive to applicants with health needs.

Type of Review: Revision.

Agency: Employment and Training Administration.

Title: Job Corps Health Questionnaire, ETA 6-53.

OMB Number: 1205-0033.

Agency Number: ETA 6-53.

Record Keeping: The applicant is not required to retain the records; admission counselors or contractor's main offices are required to retain records of applicants who are enrolled in the program for three years from the date of application.

Affected Public: Individuals or households.

Frequency: The form would be completed on each applicant.

Total Responses: 102,833.

Average Time for Responses: It takes approximately 5 minutes to complete the form. (It may take longer for some applicants.)

Estimated Total Burden Hours: 8,569. [102,833 (number of applications) / 12 (number of applications that can be completed in an hour) = 8,569]

Total Burden Cost: Operating and maintenance services associated with these forms are contracted yearly by the Federal government with outreach and admissions contractors, according to designated recruiting areas. This is one of the many functions the contractors perform for which precise costs cannot be identified. Based on the past experience of recruitment contractors, however, the annual cost for contractor staff and related cost is estimated to be about $821,399. An additional cost of $13,238 is added for the applicant's time. Making the total cost $834,637. For the approximately 70 percent of the Job Corps applicants who have never worked, no value is determined. For the remaining 30 percent of applicants who have been in the work force previously for any length of time, whether full time or less, the current minimum wage of $5.15 is used to determine the value of the applicant time.

Comments submitted in response to this comment request will be summarized and/or included in the request for Office of Management and Budget approval of the information collection request: they will also become a matter of public record.

Dated: January 27, 2004.
Emily Stover DeRocco,
Assistant Secretary, Employment and Training Administration.

[FR Doc. 04-2121 Filed 2-2-04; 8:45 am]

BILLING CODE 4510-30-P